CONSUMER PRODUCT SAFETY COMMISSION

Submission for OMB Review; Comment Request—Consumer Opinion Forum

AGENCY: Consumer Product Safety Commission.

ACTION: Notice.

SUMMARY: On May 1, 2006, the Consumer Product Safety Commission (CPSC or Commission) published a notice in accordance with provisions of the Paperwork Reduction Act of 1995 (44 U.S.C. Chapter 35) (PRA), to announce the agency's intention to seek approval for a collection of information to be conducted through a Consumer Opinion Forum (Forum) posted on the CPSC Web site, http://www.cpsc.gov. 71 FR 25570. The Commission now announces that it has submitted to the Office of Management and Budget (OMB) a request for approval of that collection of information.

The Commission received two comments. One commentor, Safe Kids Worldwide (Safe Kids), supported the collection of information because it believes that direct consumer input on specific consumer products would be beneficial to the Commission in its efforts to improve the safety of consumer products and improve the effectiveness of product recall campaigns. Safe Kids recommended that the Commission make public the participant responses on the Forum. Staff will evaluate whether posting summaries of participant responses on certain Forum topics or questions may be useful after the program is fully operational.

Another commentor, the Consumer Specialty Products Association (CSPA), questioned how the comments would be solicited and verified. In addition, CSPA asked whether product-specific information would be kept confidential, and what role a manufacturer would have in such a Forum.

In the first Federal Register notice, 71 FR 25570, the Commission explained in detail how information would be collected through the Forum. Any individual at least 18 years old who has access to the Internet and to e-mail may voluntarily register to participate in the Forum through the CPSC Web site. During the registration process, participants will be asked to provide an e-mail address and personal password to access the Forum. When a new question is posted in the Forum, registered participants may be invited via e-mail to log into the Forum and to provide responses to the posted question(s). Since the purpose of the Forum is to solicit consumer opinions and perceptions, the staff will not verify the responses provided by participants. Although questions related to certain product classes or categories might be posted in the Forum, staff does not intend to pose questions that are specific to a particular brand or model of product. Such information, however, may be received inadvertently through the Forum even if it is not solicited. To the extent that any information is obtained that could identify a specific product brand or model, such information will be kept confidential and will not be released.

The information collected via the Forum will help Commission staff evaluate consumer products and product use by providing insight and information into consumer perceptions and usage patterns. Such information may also assist the staff in its efforts to support voluntary standards activities, and help the staff identify areas regarding consumer safety issues that need additional research. In addition, based on the information obtained, the staff may be able to provide safety information to the public that is easier to read and is more readily understood by a wider range of consumers. The Forum may also be used to solicit consumer opinions and feedback regarding the effectiveness of product recall communications and to determine what action is being taken by consumers in response to such communications and why. This may aid in tailoring future recall activities to increase the success of those activities. If this information is not collected, the Commission would not have available useful information regarding consumer experiences, opinions, and perceptions related to specific product use, which the Commission relies on in its ongoing efforts to improve the safety of consumer products on behalf of consumers.

Additional Information About the Request for Approval of a Collection of Information

Agency address: Consumer Product Safety Commission, 4330 East West Highway, Bethesda, MD 20814.

Title of information collection: Consumer Opinion Forum.

Type of request: Approval of collection of information.

General description of respondents: Consumers at least 18 years of age.

Estimated annual number of respondents: 5,000.

Estimated average number of hours per respondent: 3.16 per year.

Estimated number of hours for all respondents: 15,833 per year.

Estimated cost per hour to respond: $28.75

Estimated cost of collection for all respondents: $455,000.

Comments: Comments on this request for approval of information collection requirements should be submitted by October 27, 2006 to (1) The Office of Information and Regulatory Affairs, Attn: OMB Desk Officer for CPSC, Office of Management and Budget, Washington DC 20503; telephone: (202) 395-7340, and (2) to the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Management and Program Analyst, Office of Planning and Evaluation, Consumer Product Safety Commission, 4330 East West Highway, Bethesda, MD 20814; telephone: (301) 504-7671.

Dated: September 21, 2006.
Todd A. Stevenson,
Secretary, Consumer Product Safety Commission.

[FR Doc. E6-15773 Filed 9-26-06; 8:45 am]

BILLING CODE 6355-01-P